DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 23, 2019.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on October 02, 2019.
Donald P. Burger,
Chief, General Approvals and Permits Branch.

Special Permits Data
Application No. | Applicant | Regulation(s) affected | Nature of the special permits thereof
4661-M | ALBEMARLE U.S. INC | 180.205(b), 180.205(c), 180.205(f), 180.205(g), 180.213 | To modify the special permit to authorize additional Class 3 hazmat. (modes 1, 2, 3).
11993-M | KEY SAFETY SYSTEMS, INC | 173.301(a)(1), 173.302a | To modify the special permit to remove the five year restriction on the manufactured pressure vessels. (modes 1, 2, 3, 4, 5).
12116-M | PROSERV UK LTD | 173.201, 173.301(f), 173.302a, 173.304a | To modify the special permit to authorize additional size cylinders to be manufactured. (modes 1, 2, 3, 4).
12440-M | LUXFER INC | 173.301(a)(1), 173.302(a), 173.304(a), 180.205(a) | To modify the special permit to authorize an additional Division 2.2 hazmat. (modes 1, 2, 3, 4).
12516-M | POLY-COAT SYSTEMS, INC | 107.503(b), 107.503(c), 173.241, 173.242 | To modify the special permit to remove the requirement that the special permit number be shown on shipping papers. (mode 1).
13270-M | JOYSON SAFETY SYSTEMS ACQUISITION LLC | 173.301(a)(1), 173.302a | To modify the special permit to remove the five year from manufacture date restriction for transporting. (modes 1, 2, 3, 4, 5).
14661-M | FIBA TECHNOLOGIES, INC | 180.209(a), 180.209(b)(1)(i), 180.209(b)(1)(v) | To modify the special permit to add an additional hazmat and to incorporate non-DOT specification cylinders made under special permit into the permit. (modes 1, 2, 3).
14799-M | JOYSON SAFETY SYSTEMS SACHSEN GMBH | 173.301(a)(1), 173.302a | To modify the special permit to remove the five year from manufacture restriction on transporting. (modes 1, 2, 3, 4, 5).
14833-M | JOYSON SAFETY SYSTEMS ASCHAFFENBURG GMBH | 173.301(a)(1), 173.302a, 178.65(f)(2) | To modify the special permit to remove the five year from manufacture restriction on transporting the articles. (modes 1, 2, 3, 4, 5).
14919-M | JOYSON SAFETY SYSTEMS ACQUISITION LLC | 173.301(a)(1), 173.302a, 178.65(f)(2) | To modify the special permit to remove the five year from manufacture date restriction on transporting the articles. (modes 1, 2, 3, 4, 5).
15238-M | REEDER FLYING SERVICE, INC | 172.101(j), 172.200, 172.204(c)(3), 172.301(c), 173.27(b)(2), 175.30(a)(1), 175.75 | To modify the special permit to authorize additional Class 9 hazmat to be transported. (mode 1).
15372-M | EQUIPO AUTOMOTRIZ AMERICANA, S.A. DE C.V | 173.301(a)(1), 173.302a | To modify the special permit to remove the five year from manufacture restriction on transporting the articles. (modes 1, 2, 3, 4, 5).
15552-M | POLY-COAT SYSTEMS, INC | 107.503(b), 107.503(c), 173.241, 173.242, 173.243, 172.203(a) | To modify the special permit to remove the requirement that the special permit number be shown on a shipping paper. (mode 1).
16011-M | AMERICASE, LLC | 172.200, 172.300, 172.500, 172.400, 172.600, 172.700(a), 173.185(c), 173.185(f) | To modify the special permit to authorize an additional package. (modes 1, 2, 3).
20232-M | LEIDOS BIOMEDICAL RESEARCH, INC |  | To modify the special permit to authorize additional origination and destination locations. (mode 1).
20493-M | TESLA, INC | 172.101(j), 173.185(b)(3)(i), 173.185(b)(3)(ii) | To modify the special permit to authorize the transportation in commerce of non-wired battery modules. (mode 4).
20710-M | KERR CORPORATION | 173.4a(c)(2), 173.4a(e)(2) | To modify the special permit to authorize an alternative package marking (QR Code) in lieu of requiring a copy of the special permit to accompany each shipment. (modes 1, 2, 4, 5).

[FR Doc. 2019-21890 Filed 10-7-19; 8:45 am]

BILLING CODE 4909-60-P